DEPARTMENT OF THE INTERIOR

Bureau of Land Management

Fish and Wildlife Service

[20XL1109AF LLUTC03000 L16100000.DS0000 LXSSJ0740000; UTU-93620; 13-08807]

Notice of Availability of the Draft Environmental Impact Statement to Consider a Highway Right-of-Way, Draft Amended Habitat Conservation Plan and Issuance of an Incidental Take Permit for the Mojave Desert Tortoise, and Resource Management Plan Amendments, Washington County, UT and Notice of Intent for the Proposed Closure of Certain Federal Lands to Recreational Target Shooting, Washington County, UT

AGENCY: Bureau of Land Management, Interior; Fish and Wildlife Service, Interior.

ACTION: Notice of availability; notice of ESA Section 10(a)(1)(B) permit application; and notice of intent.

SUMMARY: In compliance with the National Environmental Policy Act of 1969 (NEPA), as amended, the Federal Land Policy and Management Act of 1976 (FLPMA), as amended, the Omnibus Public Land Management Act of 2009 (OPLMA), and the Endangered Species Act of 1973 (ESA), as amended, the Bureau of Land Management (BLM), and the Fish and Wildlife Service (USFWS), as co-lead agencies, announce the availability of the Draft Environmental Impact Statement (EIS) to consider a right-of-way (ROW) application submitted by the Utah Department of Transportation (UDOT) (referred to henceforth as the Northern Corridor Project), and potential amendments to the St. George Field Office and Red Cliffs National Conservation Area (NCA) Resource Management Plans (RMPs).

DATES: To ensure comments will be considered, the BLM and USFWS must receive written comments on the proposed Northern Corridor Project Draft EIS, including potential amendments to the St. George Field Office and Red Cliffs NCA RMPs, the Draft Amended HCP and ITP application, and the potential closure of certain Federal lands to recreational target shooting by September 10, 2020. The BLM and USFWS will announce public involvement opportunities at least 15 days in advance through media releases, mailed notifications and/or the project website set out in the ADDRESSES section.

ADDRESSES: The Draft EIS, Draft Amended HCP, and ESA section 10 ITP application are available for review on the BLM ePlanning project website at https://go.usa.gov/xw8TX. Click the Documents and Reports link on the left side of the screen to find the electronic versions of these materials.

You may submit written comments related to the Northern Corridor Project Draft EIS, Draft Amended HCP, and proposed closure of certain Federal lands to recreational target shooting by either of the following methods:

• Email: BLM_UT_NorthernCorridor@blm.gov.

• Mail: Bureau of Land Management, Attn: Northern Corridor, 345 East Riverside Drive, St. George, UT 84790.

FOR FURTHER INFORMATION CONTACT: Gloria Tibbetts, BLM Color Country District Planning and Environmental Coordinator, telephone (435) 865-3063; address 176 DL Sargent Dr., Cedar City, UT 84721; email BLM_UT_NorthernCorridor@blm.gov. Persons who use a telecommunications device for the deaf (TDD) may call the Federal Relay Service (FRS) at 1-800-877-8339 to leave a message or question for the above individual. The FRS is available 24 hours a day, 7 days a week. Replies are provided during normal business hours. If you would like to request to view a hard copy, please call the St. George Field Office for more information at (435) 688-3200, Monday through Friday, except holidays. For information on the Draft Amended HCP or ITP application, contact Laura Romin, Acting Field Supervisor, U.S. Fish and Wildlife Service, telephone (801) 554-7660; email utahfieldoffice_esa@fws.gov.

SUPPLEMENTARY INFORMATION: In compliance with section 10(a)(1)(B) of the ESA, the USFWS is considering the issuance of an Incidental Take Permit (ITP) to Washington County, Utah. The ITP would authorize the take of the federally threatened Mojave desert tortoise incidental to covered activities such as residential and commercial development for a 25-year permit term. The application for the permit requires the County to amend their 1995 Habitat Conservation Plan (HCP) to current standards and ensure impacts are avoided, minimized, and mitigated to the maximum extent practicable. The 62,000-acre Red Cliffs Desert Reserve (Reserve), of which approximately 70 percent is now a National Conservation Area (NCA), was established pursuant to commitments in the 1995 HCP.

In accordance with the John D. Dingell, Jr. Conservation, Management, and Recreation Act of 2019, Public Law 116-9, 16 U.S.C. 7913, and 43 CFR 8364.1, this notice also announces the opening of a concurrent public comment period regarding the proposed permanent closure of recreational target shooting within the proposed Reserve Zone 6 area southwest of St. George, Utah.

On September 4, 2018, UDOT submitted an application for a ROW grant for the Northern Corridor Project north of the City of St. George, Utah, on non-Federal and BLM-administered public lands across the NCA and Reserve, which was established for the Mojave desert tortoise under the 1995 Washington County HCP. The 1995 HCP expired in 2016 and was extended by the USFWS to allow Washington County (County) to amend the HCP pursuant to Section 10(a)(1)(B) of the ESA. The Draft amended HCP includes the proposed Northern Corridor as a changed circumstance, with Zone 6 as the primary proposed addition to the conservation strategy. The USFWS received an application for an ITP dated January 30, 2015. The BLM is also considering amendments to the St. George Field Office and Red Cliffs NCA RMPs that would allow consideration of and mitigation (Zone 6) for the proposed Northern Corridor Project.

The Draft EIS considers four proposed actions: (1) Whether the BLM will approve a 1.9-mile ROW section of the approximately four-mile long Northern Corridor project that crosses the 62,000-acre Reserve, of which 45,000-acres were congressionally established as the Red Cliffs NCA; (2) Whether the BLM will amend the Red Cliffs NCA RMP to allow for a transportation ROW and/or corridor within the NCA; (3) Whether the USFWS will issue an ITP for the Mojave desert tortoise for specific land use and land development activities in Washington County; and (4) Whether the BLM will amend the St. George Field Office RMP to modify management on approximately 3,471 acres within a 6,800-acre area (Zone 6) outside the Reserve and NCA to offset the ROW impacts. The other half of Zone 6 is owned by the Utah School and Institutional Trust Lands Administration.

The BLM is required to respond to UDOT's application for a ROW under Title V of the FLPMA, 43 Code of Federal Regulations (CFR) part 2800, and other applicable Federal laws. The BLM will consider UDOT's ROW application through the analysis in the Draft EIS. The BLM will approve, approve with modifications, or deny issuance of a ROW grant to UDOT for the Northern Corridor.

The purpose of the BLM's Red Cliffs NCA RMP amendment Federal action is to consider changes to current management within the NCA in conjunction with its review of the pending ROW application.

The need for the USFWS's proposed action is to respond to the County's application for an ITP that addresses covered activities which have the potential to result in take of the Mojave desert tortoise, pursuant to ESA Section (10)(a)(1)(B) and its implementing regulations and policies. USFWS must review the applicant's Draft amended HCP to ensure that the elements required by Sections 10(a)(2)(A) and 10(a)(2)(B) of the ESA are satisfied.

The purpose of the BLM's St. George Field Office RMP amendment Federal action is to allow for possible management changes to Federal lands in the proposed Reserve Zone 6 to offset impacts if a ROW is granted within the Red Cliffs NCA and Reserve. This amendment potentially includes permanently closing approximately 3,471 acres of Federal lands within Zone 6 to recreational target shooting.

Scoping was initiated with the publication of a Notice of Intent in the Federal Register on December 5, 2019 (84 FR 66692). The scoping period was open through January 6, 2020. A public scoping meeting was held in St. George, Utah, on December 17, 2019. Other public outreach methods included a news release distributed on December 2, 2019, and scoping notifications sent to the BLM and USFWS interested party lists on December 10, 2019. The BLM considered all input received during the scoping period. A summary of the comments received during the scoping period can be found in the Scoping Report posted on the project website at https://go.usa.gov/xw8TX.

The Draft EIS considers the impacts of the proposed action, four other alternative highway alignments, and a no action alternative. Under Alternative 1, the No Action Alternative, the BLM would deny UDOT's application for a ROW across the Red Cliffs NCA for the Northern Corridor and would not amend the Red Cliffs NCA and St. George Field Office RMPs. The USFWS would deny the County's application for an ITP. This alternative reflects all of the roadway and transit improvements from the applicable local, regional, and statewide transportation plans that would be completed by 2050, absent the Northern Corridor. It provides a baseline against which to compare the action alternatives in the EIS.

Under Alternative 2, the T-Bone Mesa Alignment, the BLM would issue a ROW grant to UDOT for the Northern Corridor across the NCA skirting the southern edge of T-Bone Mesa. This alignment would connect Green Spring Drive on the east to Red Hills Parkway on the west just north of the Pioneer Hills trailhead parking area. The Northern Corridor would be approximately four miles long, and approximately 2.2 miles of the corridor would cross BLM-administered lands. The Red Cliffs NCA RMP would be amended to allow for the ROW and consider designation of a utility corridor along the same route. The ITP would be issued subject to the conservation measures in the amended HCP. The St. George Field Office RMP would be amended to support the conservation measures outlined for Zone 6 in the amended HCP. This amendment potentially includes permanently closing the lands in Zone 6 to recreational target shooting in order to achieve those conservation measures and managing Zone 6 consistent with the rest of the Reserve.

Under Alternative 3, the UDOT Application Alignment, the BLM would issue a ROW grant to UDOT across the Red Cliffs NCA for the Northern Corridor for the alignment included in UDOT's ROW application. This alignment would connect Green Spring Drive on the east to Red Hills Parkway on the west just north of the Pioneer Hills trailhead parking area. Under this alternative, the Northern Corridor would be approximately 4.3 miles long, and approximately 1.9 miles would cross BLM-administered lands. The Red Cliffs NCA RMP would be amended to allow for the ROW and consider a utility corridor along the same route. The ITP would be issued subject to the conservation measures in the amended HCP. The St. George Field Office RMP would be amended to support the conservation measures outlined for Zone 6 in the revised HCP. This amendment potentially includes permanently closing the lands in Zone 6 to recreational target shooting in order to achieve those conservation measures and managing the area consistent with the rest of the Reserve.

Under Alternative 4, the Southern Alignment, the BLM would issue a ROW grant to UDOT across the NCA for the Northern Corridor on the Southern Alignment. Under this alternative, the Northern Corridor would follow the southern border of the NCA, connecting Green Spring Drive on the east to Red Hills Parkway on the west just south of the Pioneer Hills trailhead parking area. The Northern Corridor would be approximately 5.3 miles long, and approximately 1.5 miles would cross BLM-administered lands. The Red Cliffs NCA RMP would be amended to allow for the ROW and to consider a utility corridor along the same route. The ITP would be issued subject to the conservation measures in the amended HCP. The St. George Field Office RMP would be amended to support the conservation measures outlined for Zone 6 in the revised HCP. This amendment potentially includes permanently closing the lands in Zone 6 to recreational target shooting in order to achieve those conservation measures and managing the area consistent with the rest of the Reserve.

Under Alternative 5, the Red Hills Parkway Expressway Alignment, the BLM would grant necessary ROW amendments to the existing UDOT ROW for the Red Hills Parkway for UDOT to convert Red Hills Parkway into a grade-separate expressway between Highland Drive and Bluff Street. Improvements would include converting existing intersections at 200 East (Skyline Drive) and 1000 East to grade-separated interchanges, and necessary modifications to the mainline roadway to accommodate the new interchange with Interstate 15 (I-15). The intersections at 900 East and Industrial Road would be closed and/or converted to right-in-right-out movements only. Existing driveways along the corridor to public and private properties would either be closed or converted to right-in-right-out movements only. The ITP would be issued subject to the conservation measures in the amended HCP. The Red Cliffs NCA RMP and the St. George Field Office RMPs would not be amended because Zone 6 would not be needed to mitigate for impacts to desert tortoises; this alternative changes the existing Red Hills Parkway to an expressway in the same ROW.

Under Alternative 6, the St. George Boulevard/100 South One-Way Couplet, the BLM would deny UDOT's application for a ROW across the Red Cliffs NCA for the Northern Corridor. Rather, this analyzes a scenario where the City of St. George would convert St. George Boulevard and 100 South to one-way streets. The two roadways would be converted between I-15 and Bluff Street, wherein St. George Boulevard would only accommodate westbound traffic and 100 South would only accommodate eastbound traffic. The St. George Boulevard would be converted from its existing two lanes in each direction (with a raised center median and turn pockets) to three westbound lanes. Modifications to the cross streets between I-15 and Bluff Street would discontinue eastbound left and right turns from the cross streets. Similarly, 100 South would be converted from its existing two lanes in each direction, with a center turn lane, to three eastbound lanes, and modifications to the intersections at cross streets between I-15 and Bluff Street would discontinue westbound left and right turns from the cross streets. In addition, the existing interchange with I-15 at St. George Boulevard would be reconfigured and combined with a new interchange at 100 South to provide a split interchange between these two roadways connected by one-way ramps. Southbound I-15 traffic would exit I-15 at St. George Boulevard and enter I-15 from 100 South. Similarly, northbound I-15 traffic would exit I-15 at 100 South and enter I-15 from St. George Boulevard. The ITP would be issued subject to the conservation measures in the amended HCP. The Red Cliffs NCA RMP and the St. George Field Office RMP would not be amended.

The BLM and USFWS have identified Alternative 3 as the agencies' preferred ROW alignment and ITP issuance alternative for the purposes of public comment and review, with Alternative B identified as the preferred for the two RMP amendments. However, the identification of this preferred alternative does not represent the agencies' final decision, and following the public comment period, there may be changes or adjustments based on information received during the public comment period. In the Final EIS, the BLM and USFWS may develop the agencies' proposed actions (ROW and ITP) and the BLM's proposed RMP amendments by using components from any alternative considered in the range of alternatives in the Draft EIS. For this reason, the BLM and USFWS invite and encourage comments on all alternatives, alignments, and actions described in the Draft EIS and Draft Amended HCP.

The BLM and USFWS will continue to provide and coordinate public participation opportunities to assist the agencies in satisfying the public involvement requirements under Section 106 of the National Historic Preservation Act (NHPA) (16 U.S.C. 470f) pursuant to 36 CFR 800.2(d)(3). The information about historic and cultural resources within the area potentially affected by the proposed actions will assist the BLM and USFWS in identifying and evaluating impacts to such resources in the context of both NEPA and Section 106 of the NHPA.

The BLM and USFWS will continue to consult with Indian tribes on a government-to government basis in accordance with Executive Order 13175 and other policies. Tribal concerns, including impacts on Indian trust assets and potential impacts to cultural resources, will be given due consideration. Federal, State, and local agencies, Tribes, and stakeholders—that may be interested in or affected by the decision on this proposed project—are encouraged to review and comment on the Draft EIS, Draft Amended HCP, and ITP application.

The BLM and USFWS are soliciting comments on the entire Draft EIS to include comments about how the proposed permanent closure of Zone 6 lands to recreational target shooting and other management will affect the public. The USFWS is also soliciting comments on the Draft Amended HCP and the ITP application. Please note that public comments and information submitted can be made available for public review and disclosure upon request and in coordination with the points of contact provided in the ADDRESSES section of this notice during regular business hours (8 a.m. to 4 p.m.), Monday through Friday, except holidays. The BLM and USFWS will respond to substantive comments by making appropriate revisions to the documents or by explaining why a comment did not warrant a change.

Before including your phone number, email address, or other personal identifying information in your comment, you should be aware that your entire comment—including your personal identifying information—may be made publicly available at any time. While you can ask us in your comment to withhold your personal identifying information from public review, we cannot guarantee that we will be able to do so.

Authority: 40 CFR 1502.9, 40 CFR 1506.6, 43 CFR 46.435, 43 CFR 1610.2, 43 CFR 8364.1 and 16 U.S.C. 7913. For USFWS, we provide this notice under section 10(c) of the ESA (16 U.S.C. 1531 et seq.) and its implementing regulations for incidental take permits (50 CFR 17.22).

Anita Bilbao,
Acting State Director.
Noreen Walsh,
Regional Director.

[FR Doc. 2020-12748 Filed 6-11-20; 8:45 am]

BILLING CODE 4310-DQ-P